DEPARTMENT OF DEFENSE

48 CFR Part 215

Defense Federal Acquisition Regulation Supplement; Profit Policy

AGENCY: Department of Defense (DoD).

ACTION: Advance notice of proposed rulemaking and notice of public meeting.

SUMMARY: The Acting Director of Defense Procurement is soliciting comments from both government and industry personnel regarding potential changes to the profit policy specified in the Defense Federal Acquisition Regulation Supplement (DFARS). The changes would increase the emphasis placed on technical risk as a factor in developing objective profit amounts. DoD will conduct a public meeting to discuss the potential changes as well as the comments received in response to this notice.

DATES: Public Meeting: The public meeting will be conducted at the address shown below on February 23, 2000, from 9:00 a.m. to 12:00 p.m., local time.

Submission of Names of Expected Attendees: The names of individuals expected to attend the public meeting should be submitted to the point of contact shown below no later than February 18, 2000, 4:00 p.m., local time.

Submission of Comments: Written comments on the potential DFARS changes should be submitted to the address shown below no later than February 17, 2000.

ADDRESSES: Public Meeting: The public meeting will be conducted at the Headquarters, Defense Logistics Agency, Command Conference Room (Room 2419), 8725 John J. Kingman Road, Fort Belvoir, Virginia.

Submission of Names of Expected Attendees: The names of individuals expected to attend the public meeting should be submitted to Mr. Robert Bemben, by telephone, FAX, mail, or e-mail at the phone number or address specified below. Walk-in attendance will be accommodated. However, pre-registration is desired, as the names of pre-registrants will be provided to building security to facilitate building access.

Submission of Comments: Interested parties should submit written comments to: Mr. Robert Bemben, PDUSD (AT&L) DP/CPF, 3060 Defense Pentagon, Washington, DC 20301-3060. E-mail comments should be sent to bembenrj&acq.osd.mil. Comments should be accompanied by supporting rationale for any proposed changes.

FOR FURTHER INFORMATION CONTACT: Mr. Robert Bemben, by telephone at (703) 695-9764; by FAX at (703) 693-9616; or by e-mail at bembenrj&acq.osd.mil.

SUPPLEMENTARY INFORMATION:

A. Draft Materials

The potential changes to the DFARS are available in draft form electronically in Microsoft Word 6.0 text format at the Cost, Pricing, and Finance Office Internet Home Page: http://www.acq.osd.mil/dp/cpf.

Note: The draft changes do not reflect a proposed rule; they are provided for information and discussion purposes only.

Paper copies may be obtained from the point of contact specified herein.

B. Background

Section 813 of the National Defense Authorization Act for Fiscal Year 2000 (Public Law 106-65) directed the Secretary of Defense to review the DoD profit guidelines to consider whether appropriate modifications, such as placing increased emphasis on technical risk as a factor for determining appropriate profit margins, would provide an increased profit incentive for contractors to develop and produce complex and innovative new technologies.

Section 813 further required the Secretary of Defense to make any changes to the profit guidelines that the Secretary determines to be necessary and to report to Congress on the results of the review.

A review of the DoD profit policy has identified potential changes to the DFARS that would increase the emphasis placed on technical risk as a factor in developing objective profit amounts. The purpose of this notice is to provide the public with a preliminary indication of changes under consideration, and to solicit comments and suggestions on those changes. After consideration of the comments submitted in writing and those offered at the public meeting, the Director of Defense Procurement may submit a draft proposed rule to the Defense Acquisition Regulations (DAR) Council for consideration. The DAR Council will publish any resulting proposed rule for additional public comments.

Michele P. Peterson,
Executive Editor, Defense Acquisition Regulations Council.

[FR Doc. 00-3141 Filed 2-9-00; 8:45 am]

BILLING CODE 5000-04-M